SMALL BUSINESS ADMINISTRATION

[Declaration of Disaster #3452]

State of Louisiana; Amendment #4

In accordance with a notice received from the Federal Emergency Management Agency, dated November 29, 2002, the above numbered declaration is hereby amended to extend the deadline for filing applications for physical damages as a result of this disaster to December 14, 2002.

All other information remains the same, i.e., the deadline for filing applications for economic injury is July 3, 2003.

Dated: December 2, 2002.
(Catalog of Federal Domestic Assistance Program Nos. 59002 and 59008)
Herbert L. Mitchell,
Associate Administrator for Disaster Assistance.

[FR Doc. 02-30985 Filed 12-6-02; 8:45 am]

BILLING CODE 8025-01-P